ENVIRONMENTAL PROTECTION AGENCY

[FRL-9976-11—Region 5]

Clean Air Act Operating Permit Program; Petitions for Objection to State Operating Permit for Superior Silica Sands and Wisconsin Proppants LLC

AGENCY: Environmental Protection Agency (EPA).

ACTION: Notice of final order on petitions for objection to Clean Air Act title V operating permits.

SUMMARY: The Environmental Protection Agency (EPA) Administrator signed an Order dated February 26, 2018, denying Petitions dated October 25, 2016 and January 25, 2017 from the Ho-Chunk Nation and the Sierra Club John Muir Chapter. The first Petition requested that EPA object to a Clean Air Act (CAA) title V operating permit issued by the Wisconsin Department of Natural Resources (WDNR) to Superior Silica Sands for its industrial sand mining and processing facility in Barron County, Wisconsin. The second Petition also requested that EPA object to a CAA title V operating permit issued by the WDNR to Wisconsin Proppants for its industrial sand mine and processing facility in Jackson County, Wisconsin.

ADDRESSES: EPA requests that you contact the individual listed in the FOR FURTHER INFORMATION CONTACT section to view copies of the final Order, the Petition, and other supporting information. You may review copies of the final Order, the Petition, and other supporting information at the EPA Region 5 Office, 77 W. Jackson Blvd., Chicago Illinois, 60604. You may view the hard copies Monday through Friday, from 9 a.m. to 4 p.m., excluding Federal holidays. If you wish to examine these documents, you should make an appointment at least 24 hours before the visiting day. Additionally, the final Order and Petition are available electronically at: https://www.epa.gov/title-v-operating-permits/title-v-petition-database.

FOR FURTHER INFORMATION CONTACT: Genevieve Damico, EPA Region 5, (312) 353-4761, damico.genevieve@epa.gov.

SUPPLEMENTARY INFORMATION: The CAA affords EPA a 45-day period to review and object to, as appropriate, operating permits proposed by state permitting authorities under title V of the CAA. Section 505(b)(2) of the CAA authorizes any person to petition the EPA Administrator to object to a title V operating permit within 60 days after the expiration of EPA's 45-day review period, if EPA has not objected on its own initiative. Petitions must be based only on objections to the permit that were raised with reasonable specificity during the public comment period provided by the state, unless the petitioner demonstrates that it was impracticable to raise these issues during the comment period or unless the grounds for the issues arose after this period.

EPA received the Petitions from Ho-Chunk Nation and the Sierra Club John Muir Chapter dated October 25, 2016 and January 25, 2017, requesting that EPA object to the issuance of operating permit no. 603110860-P01, issued by the WDNR to Superior Silica Sands for its industrial sand mining and processing facility in Barron County, Wisconsin, and operating permit no. 627026620-P01, issued by the WDNR to Wisconsin Proppants for it industrial sand mine and processing facility in Jackson County, Wisconsin. The Petitions alleged that (1) the permits are deficient because they do not include emissions estimates for all sources of particulate matter of less than 2.5 microns (PM 2.5), (2) the permits are deficient because PM 2.5 limits that were based on previous modeling were removed and WDNR has not made a defensible finding that the proposed permits will not cause or contribute to an exceedance of any ambient air quality standard, and (3) (raised in Superior Silica Sands only) the permit does not assure compliance with New Source Performance Standard for PM limits because the permit does not require the facility to operate the control device according to all of the design parameters specified in the manufacturer's guarantees.

On February 26, 2018, the EPA Administrator issued an Order denying the Petitions. The Order explains the basis for EPA's decision.

Sections 307(b) and 505(b)(2) of the CAA provide that a petitioner may request judicial review of those portions of an order that deny issues in a petition. Any petition for review shall be filed in the United States Court of Appeals for the appropriate circuit no later than June 4, 2018.

Dated: March 20, 2018.
Edward H. Chu,
Acting Regional Administrator, Region 5.

[FR Doc. 2018-06764 Filed 4-2-18; 8:45 am]

BILLING CODE 6560-50-P